DEPARTMENT OF HOMELAND SECURITY

Federal Emergency Management Agency

[Docket ID FEMA-2019-0002; Internal Agency Docket No. FEMA-B-1943]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Colorado:
Chaffee | City of Salida (19-08-0038P). | The Honorable P.T. Wood, Mayor, City of Salida, 448 East 1st Street, Suite 112, Salida, CO 81201. | City Hall, 448 East 1st Street, Suite 112, Salida, CO 81201. | https://msc.fema.gov/portal/advanceSearch. | Oct. 10, 2019 | 080031
Chaffee | Unincorporated areas of Chaffee County (19-08-0038P). | The Honorable Greg Felt, Chairman, Chaffee County Board of Commissioners, P.O. Box 699, Salida, CO 81201. | Chaffee County Planning and Zoning Department, 104 Crestone Avenue, Room 125, Salida, CO 81201. | https://msc.fema.gov/portal/advanceSearch. | Oct. 10, 2019 | 080269
Florida:
Lee | Town of Fort Myers Beach (19-04-3002P). | The Honorable Anita Cereceda, Mayor, Town of Fort Myers Beach, 2525 Estero Boulevard, Fort Myers Beach, FL 33931. | Community Development Department, 2525 Estero Boulevard, Fort Myers Beach, FL 33931. | https://msc.fema.gov/portal/advanceSearch. | Oct. 11, 2019 | 120673
Pinellas | City of Clearwater (19-04-0745P). | The Honorable George N. Cretekos, Mayor, City of Clearwater, P.O. Box 4748, Clearwater, FL 33758. | Engineering Department, 100 South Myrtle Avenue, Suite 220, Clearwater, FL 33756. | https://msc.fema.gov/portal/advanceSearch. | Sep. 30, 2019 | 125096
Sarasota | Town of Longboat Key (19-04-2109P). | Mr. Thomas A. Harmer, Manager, Town of Longboat Key, 501 Bay Isles Road, Town of Longboat Key, FL 34228. | Planning, Zoning and Building Department, 501 Bay Isles Road, Town of Longboat Key, FL 34228. | https://msc.fema.gov/portal/advanceSearch. | Oct. 15, 2019 | 125126
New Mexico: Santa Fe | City of Santa Fe (18-06-3876P). | The Honorable Alan M. Webber, Mayor, City of Santa Fe, P.O. Box 909, Santa Fe, NM 87504. | Building and Development Services Department, 102 Grant Avenue, Santa Fe, NM 87501. | https://msc.fema.gov/portal/advanceSearch. | Oct. 7, 2019 | 350070
Oklahoma: Kingfisher | Unincorporated areas of Kingfisher County (19-06-0141P). | The Honorable Jeff Moss, Chairman, Kingfisher County Board of Commissioners, 101 South Main Street, Kingfisher, OK 73750. | Kingfisher County Courthouse, 101 South Main Street, Kingfisher, OK 73750. | https://msc.fema.gov/portal/advanceSearch. | Oct. 3, 2019 | 400471
Pennsylvania:
Northumberland | Borough of Mount Carmel, (18-03-1827P). | The Honorable Robert Shirmer, President, Borough of Mount Carmel Council, 137 West 4th Street, Mount Carmel, PA 17851. | Borough Hall, 137 West 4th Street, Mount Carmel, PA 17851. | https://msc.fema.gov/portal/advanceSearch. | Oct. 7, 2019 | 420738
Northumberland | Township of Mount Carmel (18-03-1827P). | The Honorable Aaron Domanski, Chairman, Township of Mount Carmel, Board of Supervisors, 300 Laurel Street, Mount Carmel, PA 17851. | Township Hall, 300 Laurel Street, Mount Carmel, PA 17851. | https://msc.fema.gov/portal/advanceSearch. | Oct. 7, 2019 | 421942
Tennessee: Wilson. | City of Mt. Juliet (19-04-0964P). | The Honorable Ed Hagerty, Mayor, City of Mt. Juliet, 2425 North Mount Juliet Road, Mt. Juliet, TN 37122. | City Hall, 2425 North Mount Juliet Road, Mt. Juliet, TN 37122. | https://msc.fema.gov/portal/advanceSearch. | Sep. 27, 2019 | 470290
Texas:
El Paso | City of El Paso (19-06-0075P). | The Honorable Dee Margo, Mayor, City of El Paso, 300 North Campbell Street, El Paso, TX 79901. | City Development Department, 811 Texas Avenue, El Paso, TX 79901. | https://msc.fema.gov/portal/advanceSearch. | Oct. 7, 2019 | 480214
Fort Bend | Unincorporated areas of Fort Bend County (18-06-2990P). | The Honorable K. P. George, Fort Bend County Judge, 401 Jackson Street, Richmond, TX 77469. | Fort Bend County Engineering Department, 301 Jackson Street, Richmond, TX 77469. | https://msc.fema.gov/portal/advanceSearch. | Jun. 20, 2019 | 480228
Kendall | Unincorporated areas of Kendall County (18-06-3773P). | The Honorable Darrel L. Lux, Kendall County Judge, 201 East San Antonio Avenue, Suite 122, Boerne, TX 78006. | Kendall County Engineering Department, 201 East San Antonio Avenue, Suite 101, Boerne, TX 78006. | https://msc.fema.gov/portal/advanceSearch. | Sep. 23, 2019 | 480417
Montgomery | City of Conroe (19-06-0333P). | The Honorable Toby Powell, Mayor, City of Conroe, P.O Box 3066, Conroe, TX 77305. | Engineering Department, 300 West Davis Street, Conroe, TX 77301. | https://msc.fema.gov/portal/advanceSearch. | Oct. 7, 2019 | 480484
Montgomery | Unincorporated areas of Montgomery County (19-06-0333P). | The Honorable Mark J. Keough, Montgomery County Judge, 501 North Thompson Street, Suite 401, Conroe, TX 77301. | Montgomery County Commissioners Court Building, 501 North Thompson Street, Suite 103, Conroe, TX 77301. | https://msc.fema.gov/portal/advanceSearch. | Oct. 7, 2019 | 480483
Tarrant | City of Crowley (18-06-3679P). | The Honorable Billy P. Davis, Mayor, City of Crowley, 201 East Main Street, Crowley, TX 76036. | City Hall, 201 East Main Street, Crowley, TX 76036. | https://msc.fema.gov/portal/advanceSearch. | Oct. 7, 2019 | 480591
Tarrant | Unincorporated areas of Tarrant County (18-06-3679P). | The Honorable B. Glen Whitley, Tarrant County Judge, 100 East Weatherford Street, Suite 401, Fort Worth, TX 76196. | Tarrant County Plaza Building, 100 East Weatherford Street, Suite 401, Fort Worth, TX 76196. | https://msc.fema.gov/portal/advanceSearch. | Oct. 7, 2019 | 480582
Virginia: Independent City | City of Fairfax, (19-03-0492P). | Mr. Robert A. Stalzer, Manager, City of Fairfax, 10455 Armstrong Street, Room 316, Fairfax, VA 22030. | Public Works Department, 10455 Armstrong Street, Room 200, Fairfax, VA 22030. | https://msc.fema.gov/portal/advanceSearch. | Oct. 11, 2019 | 515524

[FR Doc. 2019-14180 Filed 7-2-19; 8:45 am]

BILLING CODE 9110-12-P